DEPARTMENT OF STATE

[Public Notice 8856]

Meeting of the United States-Jordan Joint Forum on Environmental Technical Cooperation and Request for Comments on the Meeting Agenda and the 2014-2017 Work Program

AGENCY: Department of State.

ACTION: Announcement of meeting; solicitation of comments; invitation to public session.

SUMMARY: The Department of State is providing notice that the governments of the United States and the Hashemite Kingdom of Jordan (the governments) intend to hold the Joint Forum on Environmental Technical Cooperation (Joint Forum) and a public session in Amman, Jordan, on September 8, 2014, at the Royal Scientific Society, Hashemite Auditorium.

The governments created the Joint Forum pursuant to the United States-Jordan Joint Statement on Environmental Technical Cooperation (Joint Statement) in support of the United States-Jordan Free Trade Agreement (FTA), both signed on October 24, 2000. During the Joint Forum, the governments will discuss how the United States and Jordan can cooperate to protect the environment, review past bilateral environmental cooperation, and commit to a 2014-2017 Work Program on Environmental Technical Cooperation (Work Program). The Department of State invites members of the public to submit written comments on items to include on the meeting agenda or in the 2014-2017 Work Program.

The Department of State also invites interested persons to attend a public session to learn more about the work of the Joint Forum and the new Work Program and provide advice or comments on its implementation.

DATES: The public session will be held on September 8, 2014, in Amman, Jordan at the Royal Scientific Society, Hashemite Auditorium. Comments on the Joint Forum meeting agenda and/or the 2014-2017 Work Program should be provided no later than September 4, 2014, to facilitate consideration.

ADDRESSES: Those interested in attending the public session should email Geoff Finger at FingerGT@state.gov. Comments on the Joint Forum meeting agenda and/or the 2014-2017 Work Program should be emailed to FingerGT@state.gov or faxed to Geoff Finger at (202) 647-5947, with the subject line “United States-Jordan Environmental Cooperation.” Those with access to the internet can view and comment on this notice by going to: http://www.regulations.gov/#!home and searching on docket number DOS-2014-0021.

FOR FURTHER INFORMATION CONTACT: Geoff Finger, (202) 647-4828.

SUPPLEMENTARY INFORMATION: The United States and Jordan announced the establishment of the Joint Forum when they signed the Joint Statement on October 24, 2000, along with the FTA. The Joint Forum meets regularly and advances environmental protection in Jordan by developing environmental technical cooperation initiatives, which take into account environmental priorities, and which are agreed to by the governments. In paragraph 4 of the Joint Statement, the countries identified an initial focus of technical cooperation on Jordanian environmental quality issues and the development and effective implementation of Jordanian environmental laws, as defined in Articles 5.4 and 18.2(a) of the FTA.

The Joint Forum has met three times since 2000: In 2004, 2009, and 2012, and issued three documents to implement the Joint Statement. The United States anticipates the 2014-2017 Work Program will build upon this prior cooperation. The September 2004 Plan of Action focused on implementing the strategic vision of Jordan's Ministry of Environment, established in 2002, to promote sustainable economic growth and development. The plan outlined activities to, among other things, strengthen the Ministry's capacity for setting, implementing, and ensuring compliance with environmental standards; harness market forces to protect the environment while bringing economic benefits; undertake industrial wastewater treatment and hazardous waste management for a target region; seek out economic benefits of ecotourism; and promote the development of a regional network of environmental lawmakers and enforcement officials. During the second Joint Forum in March 2009, the governments agreed on the 2008-2011 Work Program, which largely continued the previous areas for cooperation. In March 2012, the governments issued the most recent Work Program for 2012-2013 with the following priority areas of cooperation: (1) Institutional and policy strengthening for effective implementation and enforcement of environmental laws, including natural resource-related laws; (2) biodiversity conservation and improved management of protected areas and other ecologically important ecosystems; (3) improved private sector environmental performance; and (4) environmental education, transparency, and public participation in environmental decision-making and enforcement.

Members of the public, including non-governmental organizations, educational institutions, private sector enterprises, and all other interested persons, are invited to submit written comments regarding items for inclusion in the meeting agenda or in the new Work Program. Please include your full name and identify any organization or group you represent. We encourage submitters to refer to:

• United States-Jordan Joint Statement on Environmental Technical Cooperation;

• United States-Jordan 2012-2013 Work Program on Environmental Technical Cooperation;

• United States-Jordan 2008-2011 Work Program on Environmental Technical Cooperation;

• Article 5 of the United States-Jordan Free Trade Agreement; and

• Environmental Review of the United States-Jordan Free Trade Agreement.

These documents are available at: http://www.state.gov/e/oes/eqt/trade/jordan/index.htm.

Dated: August 27, 2014.
Deborah Klepp,
Director, Office of Environmental Quality and Transboundary Issues, U.S. Department of State.

[FR Doc. 2014-20805 Filed 8-29-14; 8:45 am]

BILLING CODE 4710-09-P